DEPARTMENT OF THE INTERIOR

National Park Service

[NPS-WASO-NAGPRA-13769; PPWOCRADN0-PCU00RP14.R50000]

Notice of Inventory Completion: Thomas Burke Memorial Washington State Museum, University of Washington, Seattle, WA, and Central Washington University, Ellensburg, WA

AGENCY: National Park Service, Interior.

ACTION: Notice.

SUMMARY: The Thomas Burke Memorial Washington State Museum, University of Washington (Burke Museum), and Central Washington University have completed an inventory of human remains, in consultation with the appropriate Indian tribes or Native Hawaiian organizations, and have determined that there is a cultural affiliation between the human remains and present-day Indian tribes or Native Hawaiian organizations. Lineal descendants or representatives of any Indian tribe or Native Hawaiian organization not identified in this notice that wish to request transfer of control of these human remains should submit a written request to the Burke Museum or Central Washington University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Burke Museum or Central Washington University at the address in this notice by October 30, 2013.

ADDRESSES: Peter Lape, Burke Museum, University of Washington, Box 353010, Seattle, WA 98195, telephone (206) 685-3849, email plape@uw.edu, and Lourdes Henebry-DeLeon, Department of Anthropology, Central Washington University, 400 East University Way, Ellensburg, WA 98926-7544, telephone (509) 963-2671, email deleonl@cwu.edu.

SUPPLEMENTARY INFORMATION: Notice is here given in accordance with the Native American Graves Protection and Repatriation Act (NAGPRA), 25 U.S.C. 3003, of the completion of an inventory of human remains under the control of the Burke Museum and Central Washington University. The human remains were removed from Snohomish and Island Counties, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Burke Museum and Central Washington University professional staff in consultation with representatives of the Lummi Tribe of the Lummi Reservation; Samish Indian Nation (previously listed as the Samish Indian Tribe, Washington); Sauk-Suiattle Indian Tribe; Snoqualmie Indian Tribe (previously listed as the Snoqualmie Tribe, Washington); Stillaguamish Tribe of Indians of Washington (previously listed as the Stillaguamish Tribe of Washington); Swinomish Indians of the Swinomish Reservation of Washington; Tulalip Tribes of Washington (previously listed as the Tulalip Tribes of the Tulalip Reservation, Washington); and the Upper Skagit Indian Tribe (hereafter referred to as “The Consulted Tribes”).

History and Description of the Remains

In 1933, human remains representing, at minimum, three individuals were removed from Holmes Harbor on southern Whidbey Island in Island County, WA. The human remains were removed by A.O. Soreng and subsequently donated to the Burke Museum in 1941 (Burke Accn. #3183). In 1974, the Burke Museum staff legally transferred elements associated with the individuals to Central Washington University (CWU N). No known individuals were identified. No associated funerary objects are present.

In 1939, human remains representing, at minimum, two individuals were removed from Warm Beach in the Port Susan area in Snohomish County, WA. The human remains were found by a road crew and collected by Hillman Investment Company. The human remains were donated to the Burke Museum in 1939 (Burke Accn. #3101). In 1974, the Burke Museum staff legally transferred elements associated with the individuals to Central Washington University (CWU BM). No known individuals were identified. No associated funerary objects are present.

Based on cranial morphology, the human remains are Native American. Linguistically, Native American speakers of the northern dialect of the Lushootseed language claim cultural heritage to the Port Susan area in Snohomish County and southern Whidbey Island. Historical and anthropological sources (Hollenbeck 1987, Mooney 1896, Ruby and Brown 1986, Spier 1936, and Swanton 1952) indicate that the Snohomish and Stillaguamish peoples occupied southern Whidbey Island and the Port Susan area. The Indian Claims Commission determined that the aboriginal territory of the Snohomish people includes parts of both locations, albeit not the entirety of both sites. Today, descendants of the Snohomish are represented by the Tulalip Tribes of Washington. Holmes Harbor was one of the areas where the Stillaguamish and other tribes were told to move after being forced to leave their villages on the mainland (Deur 2009, Grady 2012).

Determinations Made by the Burke Museum and Central Washington University

Officials of the Burke Museum and Central Washington University have determined that:

• Pursuant to 25 U.S.C. 3001(9), the human remains described in this notice represent the physical remains of five individuals of Native American ancestry.

• Pursuant to 25 U.S.C. 3001(2), there is a relationship of shared group identity that can be reasonably traced between the Native American human remains and the Stillaguamish Tribe of Indians of Washington (previously listed as Stillaguamish Tribe of Washington) and the Tulalip Tribes of Washington (previously listed as the Tulalip Tribes of the Tulalip Reservation, Washington).

Additional Requestors and Disposition

Lineal descendants or representatives of any Indian tribe or Native Hawaiian organization not identified in this notice that wish to request transfer of control of these human remains should submit a written request with information in support of the request to Peter Lape, Burke Museum, University of Washington, Box 353010, Seattle, WA 98195, telephone (206) 685-3849, email plape@uw.edu, or Lourdes Henebry-DeLeon, Department of Anthropology, Central Washington University, 400 East University Way, Ellensburg, WA 98926-7544, telephone (509) 963-2671, email deleonl@cwu.edu, by October 30, 2013. After that date, if no additional requestors have come forward, transfer of control of the human remains to the Stillaguamish Tribe of Indians of Washington (previously listed as Stillaguamish Tribe of Washington) and the Tulalip Tribes of Washington (previously listed as the Tulalip Tribes of the Tulalip Reservation, Washington) may proceed.

The Burke Museum is responsible for notifying The Consulted Tribes that this notice has been published.

Dated: August 14, 2013.
David Tarler,
Acting Manager, National NAGPRA Program.

[FR Doc. 2013-23823 Filed 9-27-13; 8:45 am]

BILLING CODE 4312-50-P